DEPARTMENT OF COMMERCE

National Oceanic and Atmospheric Administration

[RTID 0648-XA357]

Caribbean Fishery Management Council; Public Meetings

AGENCY: National Marine Fisheries Service (NMFS), National Oceanic and Atmospheric Administration (NOAA), Commerce.

ACTION: Notice of public meetings.

SUMMARY: The Caribbean Fishery Management Council's (Council) District Advisory Panels (DAPs) will hold public virtual meetings to address the items contained in the tentative agenda included in the SUPPLEMENTARY INFORMATION.

DATES: The DAPs public virtual meetings will be held as follows: St. Thomas/St. John DAP, August 24, 2020, from 9 a.m. to 3 p.m., and on August 25, 2020, from 9 a.m. to 12:30 p.m.; St. Croix DAP, August 26, 2020, from 9 a.m. to 3 p.m.; Puerto Rico DAP, August 27, 2020, from 9 a.m. to 3 p.m. All meetings will be at Eastern Day Time.

ADDRESSES: You may join the DAPs public virtual meetings (via GoToMeeting) from a computer, tablet or smartphone by entering the following address:

Monday, August 24, 2020—St. Thomas/St. John, DAP, 9 a.m.-3 p.m.

Please, join the meeting from your computer, tablet or smartphone.

https://global.gotomeeting.com/join/386200149

You can also dial in using your phone.

United States: +1 (646) 749-3122

Access Code: 386-200-149

New to GoToMeeting? Get the app now and be ready when your first meeting starts:

https://global.gotomeeting.com/install/386200149

Tuesday, August 25, 2020—St. Thomas/St. John, DAP, 9 a.m.-12:30 p.m.

Please, join the meeting from your computer, tablet or smartphone.

https://global.gotomeeting.com/join/386200149

You can also dial in using your phone.

United States: +1 (646) 749-3122

Access Code: 386-200-149

New to GoToMeeting? Get the app now and be ready when your first meeting starts:

https://global.gotomeeting.com/install/386200149

Wednesday, August 26, 2020—St. Croix, DAP, 9 a.m.-3 p.m.

Please, join the meeting from your computer, tablet or smartphone.

https://global.gotomeeting.com/join/819012045

You can also dial in using your phone.

United States: +1 (872) 240-3412

Access Code: 819-012-045

New to GoToMeeting? Get the app now and be ready when your first meeting starts:

https://global.gotomeeting.com/install/819012045

Thursday, August 27, 2020—Puerto Rico, DAP, 9 a.m.-3 p.m.

Please, join the meeting from your computer, tablet or smartphone. Please join my meeting from your computer, tablet or smartphone.

https://global.gotomeeting.com/join/343080229

You can also dial in using your phone.

United States: +1 (669) 224-3412

Access Code: 343-080-229

New to GoToMeeting? Get the app now and be ready when your first meeting starts:

https://global.gotomeeting.com/install/343080229

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

DAP St.Thomas/St. John, USVI

Monday, August 24, 2020, 9 a.m.-12 p.m.

—Call to Order

—Roll Call

—Adoption of Agenda

—Ecosystem Elements Discussion—Graciela García-Moliner

Monday, August 24, 2020, 12 p.m.-1 p.m.

—Lunch Break

Monday, August 24, 2020, 1 p.m.-3 p.m.

—E.O. on Promoting American Seafood Competitiveness and Economic Growth

Tuesday, August 25, 2020, 9 a.m.-12:30 p.m.

—5-year Strategic Plan Priorities

DAP St. Croix, USVI

Wednesday, August 26, 2020, 9 a.m.-12 p.m.

—5-year Strategic Plan Priorities

Wednesday, August 26, 2020, 12 p.m.-1 p.m.

Lunch Break

Wednesday, August 26, 2020, 1 p.m.-2 p.m.

—Review of Ecosystem Elements—Graciela García-Moliner

Wednesday, August 26, 2020, 2 p.m.-3 p.m.

—E.O. on Promoting American Seafood Competitiveness and Economic Growth

DAP Puerto Rico

Thursday, August 27, 2020, 9 a.m.-12 p.m.

—5-year Strategic Plan Priorities

Thursday, August 27, 2020, 12 p.m.-1 p.m.

—Lunch Break

Thursday, August 27, 2020, 1 p.m.-2 p.m.

—Review of Ecosystem Elements—Graciela García-Moliner

Thursday, August 27, 2020, 2 p.m.-3 p.m.

—E.O. on Promoting American Seafood Competitiveness and Economic Growth

At all these meetings CFMC will provide for public participation, aside from DAP members. The CFMC is interested in hearing feedback on priorities for this Strategic Plan. Each Chair of the DAPs will allocate a public comment period at the virtual meetings. The list of topics to considered include: (1) Resource Health: Invasive species, climate change, erosion & sedimentation, coastal development, natural disasters, habitat loss & destruction, enforcement, pollution, bycatch & discard mortality, abundance of baitfish and forage species, lack of biological or ecosystem information, overfishing, and illegal fishing; (2) Social, Cultural, Economic Concerns: Closed seasons and stock assessment, valuation and assessment of area closures, increasing costs, competition with foreign fishermen, recreational & commercial user conflicts, displacement of fishing communities, and ability to support a family, illegal/unlicensed commercial fishers, lack of new entrants into fishery, lack of social & economic data, excess gear, market instability, infrastructure needs (landing sites), inadequate enforcement, excess fishing capacity; (3) Management & Operational Issues: accurate/timely commercial and recreational catch data, enforcement of existing regulations, fisher involvement in data collection, regulatory consistency (federal & territorial), clear management objectives, bycatch/regulatory discards, gear limits, cost-effective data collection technology, balancing commercial & recreational concerns, incorporation of climate change into management, Federal permit program, and territorial licensing requirements; (4) Communication and Outreach: Frequency of communication (alerts/reminders of scoping meetings and council meetings), variety of tools used in communication (e.g. email, website, social media, paper, text message alerts), educational resources (e.g. science & stock assessment, business planning, restaurant choices, etc.), improving general public awareness of fisheries issues, regular in-person outreach workshops on important topics, and clarity and simplicity of presentations.

The order of business may be adjusted as necessary to accommodate the completion of agenda items. Other than the start time, interested parties should be aware that discussions may start earlier or later than indicated, at the discretion of the Chair.

Special Accommodations

Simultaneous interpretation will be provided. To receive interpretation in Spanish you can dial into the meeting as follows:

US/Canada: call +1-888-947-3988, when system answers, enter 1*999996#.

Para interpretación en inglés marcar:

US/Canada: call +1-888-947-3988, cuando el sistema conteste, entrar el siguiente número 2*999996#.

For any additional information on this public virtual meeting, please contact Diana Martino, Caribbean Fishery Management Council, 270 Muñoz Rivera Avenue, Suite 401, San Juan, Puerto Rico 00918-1903, telephone: (787) 226-8849.

Authority: 16 U.S.C. 1801 et seq.

Dated: August 4, 2020.
Tracey L. Thompson,
Acting Deputy Director, Office of Sustainable Fisheries, National Marine Fisheries Service.

[FR Doc. 2020-17288 Filed 8-6-20; 8:45 am]

BILLING CODE 3510-22-P